POSTAL REGULATORY COMMISSION

[Docket No. CP2024-230; Order No. 7040]

Competitive Product Changes

AGENCY: Postal Regulatory Commission.

ACTION: Notice.

SUMMARY: The Commission is recognizing a recently filed Postal Service document with the Commission concerning changes in classifications of general applicability for competitive products. This notice informs the public of the filing, invites public comment, and takes other administrative steps.

DATES: Comments are due: May 9, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On April 9, 2024, pursuant to 39 CFR 3035.104, the Postal Service filed notice announcing its intention to remove rates of general applicability for Vendor Assisted Electronic Money Transfers from the International Money Transfer Service (IMTS)—Outbound product under section 2620 of the Mail Classification Schedule (MCS), effective July 14, 2024.¹

¹ United States Postal Service Notice of Changes in Classifications of General Applicability for Competitive Products, April 9, 2024, at 1 (Notice).

II. Contents of Filing

The Postal Service states that the IMTS—Outbound product includes an Electronic Money Transfer service that enables customers to make payments or transfer funds to individuals or firms in foreign destinations. Notice at 2. Currently, Electronic Money Transfers are available through the Sure Money (DineroSeguro) service described in International Mail Manual section 372.² In July 2022, the Postal Service increased prices for Sure Money (DineroSeguro) by about 305 percent,³ which led to a significant decline in Sure Money (DineroSeguro) transactions and in turn, a sharp decline in IMTS—Outbound volume between Fiscal Year (FY) 2022 and FY 2023.⁴ Notice at 2. Due to this decline, the Postal Service intends to terminate the Sure Money (DineroSeguro) service, and hence the removal of prices for Vendor Assisted Electronic Money Transfers from MCS section 2620. Id.

² See id.; see also International Mail Manual section 372, Sure Money (DineroSeguro), available at https://pe.usps.com/text/imm/immc3_019.htm.

³ Docket No. CP2022-62, Order Approving Changes in Rates and Classifications of General Applicability for Competitive Products, June 8, 2022, at 3, 7 (Order No. 6195).

⁴ Docket No. ACR2023, United States Postal Service, Annual Compliance Report, December 29, 2023, at 104.

The Postal Service states that the proposed changes would not result in the violation of any provisions of 39 U.S.C. 3633, because these changes represent a major step towards termination of the IMTS—Outbound product, which has been non-compensatory for several years and did not cover its attributable cost in FY 2023.⁵ The Postal Service believes that terminating Sure Money (DineroSeguro) would reduce the IMTS—Outbound product's overall losses. Notice at 3. In addition, Sure Money (DineroSeguro) generates only a small amount of revenue in relation to the total revenue for Competitive products. Id. For these reasons, terminating Sure Money (DineroSeguro) would not impair the ability of Competitive products to collectively cover an appropriate share of the institutional costs of the Postal Service. Id.

⁵ Id. at 3 (citing Docket No. ACR2023, Annual Compliance Determination, March 28, 2024, at 68-69).

The Postal Service further states that the likely impact of the proposed changes on users of the product and on competitors would be limited, because competitors offer international electronic money transfer services for fees that are substantially lower than the fees that the Postal Service charges for Sure Money (DineroSeguro), and the Postal Service's share of the market for services that are similar to Sure Money (DineroSeguro) is very small.⁶ In addition, the OIG noted that most purchases of Sure Money (DineroSeguro) occurred in a relatively small number of Post Offices. Notice at 4-5 (citing OIG Sure Money Report at 3-4, 7). The Postal Service states that if it exits from the market, that will leave competitors with opportunities to pick up customers that are currently served by the Postal Service. Id. at 5.

⁶ Notice at 4 (citing United States Postal Service, Office of Inspector General, Report No. 22-167-R23, Sure Money—International Electronic Money Transfer Service, May 12, 2023, at 5, Table 2, available at https://www.uspsoig.gov/reports/audit-reports/sure-money-process-and-performance (OIG Sure Money Report); The World Bank, Remittance Prices Worldwide Quarterly: An Analysis of Trends in Cost of Remittance Services, Issue 47, September 2023, at 11, available at https://remittanceprices.worldbank.org; Congressional Research Service, Remittances: Background and Issues for the 118th Congress, Updated May 10, 2023, at PDF page 2 of 16, available at https://www.google.com/url?sa=t&rct=j&q=&esrc=s&source=web&cd=&ved=2ahUKEwjjsr21z6GFAxWxrokEHVdTDfsQFnoECDkQAQ&url=https%3A%2F%2Fcrsreports.congress.gov%2Fproduct%2Fpdf%2FR%2FR43217%2F16&usg=AOvVaw3k6EjZpOhN_Gd8a81BjC_3&opi=89978449).

With the Notice, the Postal Service attaches the Governors' Decision that establishes the changes and includes a statement of explanation and justification for the changes to the MCS that are the subject of this docket, as well as a certification of the vote. See Notice at 1, Attachment 1. The Postal Service also attaches proposed changes to the MCS in legislative format. See Notice at 1, Attachment 2.

III. Commission Action

The Commission establishes Docket No. CP2024-230 for consideration of matters raised by the Notice.

The Commission invites comments on whether the Postal Service's filing is consistent with 39 U.S.C. 3632 and 3633 and 39 CFR part 3035. Comments are due no later than May 9, 2024. The public portions of the filing can be accessed via the Commission's website (http://www.prc.gov).

The Commission appoints Mallory L. Smith to serve as Public Representative in this docket, pursuant to 39 U.S.C. 505.

IV. Ordering Paragraphs

It is ordered:

1. The Commission establishes Docket No. CP2024-230 for consideration of matters raised by the Postal Service's Notice.

2. Pursuant to 39 U.S.C. 505, Mallory L. Smith is appointed to serve as an officer of the Commission to represent the interests of the general public in this proceeding (Public Representative).

3. Comments are due no later than May 9, 2024.

4. The Secretary shall arrange for publication of this order in the Federal Register.

By the Commission.
Erica A. Barker,
Secretary.

[FR Doc. 2024-08163 Filed 4-16-24; 8:45 am]

BILLING CODE 7710-FW-P